DEPARTMENT OF TRANSPORTATION

Federal Aviation Administration

14 CFR Part 71

[Docket No. FAA-2016-9556; Airspace Docket No. 16-AEA-2]

RIN 2120-AA66

Proposed Establishment and Modification of Area Navigation Routes, Atlantic Coast Route Project; Northeastern United States

AGENCY: Federal Aviation Administration (FAA) DOT.

ACTION: Notice of proposed rulemaking (NPRM); withdrawal.

SUMMARY: The FAA is withdrawing the NPRM published in the Federal Register on January 5, 2017, proposing to establish 12 high altitude area navigation (RNAV) routes (Q-routes), and modify one existing Q-route, in support of the Atlantic Coast Route Project (ACRP). The FAA reviewed project scoping and determined that additional planning is warranted to ensure a more efficient implementation and integration with other ongoing program activities, and determined that withdrawal of the proposed rule is warranted.

DATES: Effective as of 0901 UTC, June 22, 2018, the proposed rule published January 5, 2017 (82 FR 1276), is withdrawn.

FOR FURTHER INFORMATION CONTACT: Paul Gallant, Airspace Policy Group, Office of Airspace Services, Federal Aviation Administration, 800 Independence Avenue SW, Washington, DC 20591; telephone: (202) 267-8783.

SUPPLEMENTARY INFORMATION:

History

The FAA published a NPRM in the Federal Register for Docket No. FAA-2016-9556 (82 FR 1276; January 5, 2017). The NPRM proposed 12 new Q-routes (Q-75, Q-97, Q-167, Q-220, Q-411, Q-419, Q-430, Q-437, Q-439, Q-445, Q-450 and Q-479); and existing route Q-480, along the Atlantic Coast, in the northeastern U.S.

Interested parties were invited to participate in this rulemaking effort by submitting written comments on the proposal. No comments were received.

FAA's Conclusions

The FAA has reviewed project scoping and determined that additional planning is warranted to ensure a more efficient implementation and integration with other ongoing program activities; therefore, the NPRM is withdrawn.

List of Subjects in 14 CFR Part 71

Airspace, Incorporation by reference, Navigation (air).

The Withdrawal

Accordingly, pursuant to the authority delegated to me, the NPRM published in the Federal Register on January 5, 2017 (82 FR 1276), FR Doc. 2016-31911, is hereby withdrawn.

Authority: 49 U.S.C. 106(f), 106(g), 40103, 40113, 40120; E.O. 10854; 24 FR 9565, 3 CFR, 1959-1963 Comp., p. 389.

Issued in Washington, DC, on June 13, 2018.
Scott J. Gardner,
Acting Manager, Airspace Policy Group.

[FR Doc. 2018-13377 Filed 6-21-18; 8:45 am]

BILLING CODE 4910-13-P